DEPARTMENT OF THE INTERIOR

Fish and Wildlife Service

[FWS-R4-R-2010-N176; 40136-1265-0000-S3]

Cape Romain National Wildlife Refuge, Charleston County, SC; Final Comprehensive Conservation Plan and Finding of No Significant Impact for Environmental Assessment

AGENCY: Fish and Wildlife Service, Interior.

ACTION: Notice of availability.

SUMMARY: We, the Fish and Wildlife Service (Service), announce the availability of our final comprehensive conservation plan (CCP) and finding of no significant impact (FONSI) for the environmental assessment for Cape Romain National Wildlife Refuge (NWR). In the final CCP, we describe how we will manage this refuge for the next 15 years.

ADDRESSES: You may obtain a copy of the CCP by writing to: Raye Nilius, Refuge Manager, Cape Romain NWR, 5801 Highway 17 North, Awendaw, SC 29429. The CCP may also be accessed and downloaded from the Service's Web site: http://southeast.fws.gov/planning/ under “Final Documents.”

FOR FURTHER INFORMATION CONTACT: Raye Nilius; telephone: 843/928-3264.

SUPPLEMENTARY INFORMATION:

Introduction

With this notice, we finalize the CCP process for Cape Romain NWR. We started this process through a notice in the Federal Register on January 3, 2007 (72 FR 141).

Established in 1932 as a migratory bird refuge, Cape Romain NWR encompasses a 22-mile segment of the southeast Atlantic coast. The refuge contains 66,267 acres and consists of barrier islands, salt marshes, intricate coastal waterways, sandy beaches, fresh and brackish water impoundments, and maritime forests. Points of interest include Bulls Island, Cape Island, and Lighthouse Island. Two lighthouses, though no longer operational, still stand on Lighthouse Island. The refuge's original objectives were to conserve in public ownership habitat for waterfowl, shorebirds, and resident species. In recent years, objectives have expanded to include managing endangered species, protecting the 28,000-acre Class 1 Wilderness Area, and conserving the Bulls Island and Cape Island forests and associated diverse plant communities. Currently, the refuge is actively working to aid in the recovery of the threatened loggerhead sea turtle. Recognizing the high migratory bird benefits and recreational opportunities served by the lands and waters of the refuge, Cape Romain NWR was established under the Migratory Bird Conservation Act, the Fish and Wildlife Act, and the Refuge Recreation Act, thus outlining the following primary purposes of these lands and waters:

• “For use as an inviolate sanctuary, or for any other management purpose, for migratory birds” (16 U.S.C. 715d; Migratory Bird Conservation Act);

• “to conserve and protect migratory birds * * * and other species of wildlife that are listed * * * as endangered species or threatened species and to restore or develop adequate wildlife habitat” (16 U.S.C. 715i; Migratory Bird Conservation Act);

• “for the development, advancement, management, conservation, and protection of fish and wildlife resources” (16 U.S.C. 742f(a)(4)) “for the benefit of the United States Fish and Wildlife Service, in performing its activities and services. Such acceptance may be subject to the terms of any restrictive or affirmative covenant, or condition of servitude” (16 U.S.C. 742f(b)(1); Fish and Wildlife Act of 1956);

• “suitable for (1) incidental fish and wildlife-oriented recreational development, (2) the protection of natural resources, and (3) the conservation of endangered species or threatened species” (16 U.S.C. 406k-2 and 16 U.S.C. 406k-4; Refuge Recreation Act, as amended);

• “so as to provide protection of these areas * * * and to ensure * * * the preservation of their wilderness character” (Wilderness Act of 1964; Pub. L. 88-577)

We announce our decision and the availability of the final CCP and FONSI for Cape Romain NWR in accordance with the National Environmental Policy Act (42 U.S.C. 4321 et seq.; NEPA) (40 CFR 1506.6(b)) requirements. We completed a thorough analysis of impacts on the human environment, which we included in the Draft Comprehensive Conservation Plan and Environmental Assessment (Draft CCP/EA) for Cape Romain NWR. The CCP will guide us in managing and administering Cape Romain NWR for the next 15 years.

The compatibility determinations for hunting, beach use, environmental education and interpretation, surf fishing, wildlife observation and photography, and bicycling are available in the CCP.

Background

The National Wildlife Refuge System Administration Act of 1966 (16 U.S.C. 6668dd-668ee) (Administration Act), as amended by the National Wildlife Refuge System Improvement Act of 1997, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft CCP/EA available for a 30-day public review and comment period via a Federal Register notice on April 30, 2010 (75 FR 22838). We received 16 comments on the Draft CCP/EA.

Selected Alternative

The Draft CCP/EA identified and evaluated three alternatives for managing the refuge. After considering the comments we received, and based on the professional judgment of the planning team, we selected Alternative C for implementation.

Under Alternative C, greater effort will be placed on increasing overall wildlife and habitat quality. Although management of sea turtles, waterfowl, threatened and endangered species, and migratory birds will remain a focus of the refuge, wetland habitat manipulations will also consider the needs of multiple species, such as marsh and wading birds. Maritime forests and fields for neotropical migratory birds will be more actively managed. Landscape-level consideration of habitats will include identifying areas of importance that will become critical to wildlife as sea level rises and reduces habitat currently available. Multiple species consideration will include species and habitats identified by the South Atlantic Migratory Bird Initiative and the State's Strategic Conservation Plan.

This alternative will provide additional monitoring and surveying of migratory neotropical and breeding songbirds, secretive marsh birds, and plants. Monitoring efforts will be increased with the assistance of additional staff, trained volunteers, and academic researchers.

Wildlife-dependent recreational uses of the refuge will continue. Hunting and fishing will continue to be allowed; however, hunting will be managed with a greater focus on achieving biological needs of the refuge, such as deer population management. Environmental education and interpretation will continue, with additional education and outreach efforts aimed at the importance of climate change, sea level rise, and wilderness. A significantly greater effort will be made with outreach to nearby developing urban communities and a growing human population. Existing environmental education programs, such as the Earth Stewards Program conducted in concert with the SEWEE Association, the refuge friends group, will be expanded to include additional elementary schools, students, and teachers.

The refuge staff will be increased with the addition of a wildlife refuge specialist and two biologists to carry out habitat management and monitoring needs. An additional park ranger will be hired to enhance visitor services and environmental education programs. Greater emphasis will be placed on recruiting and training volunteers, and worker/camper opportunities will be expanded to accomplish maintenance programs and other refuge goals and objectives. The biological programs will actively seek funding and researchers to study primarily management-oriented needs.

Greater emphasis will be placed on developing and maintaining active partnerships, including seeking grants to assist the refuge in reaching primary objectives.

Authority

This notice is published under the authority of the National Wildlife Refuge System Improvement Act of 1997, Public Law 105-57.

Dated: September 14, 2010.
Mark J. Musaus,
Acting Regional Director.

[FR Doc. 2010-28340 Filed 11-9-10; 8:45 am]

BILLING CODE 4310-55-P